DEPARTMENT OF THE INTERIOR

National Park Service

National Register of Historic Places; Notification of Pending Nominations and Related Actions

Nominations for the following properties being considered for listing or related actions in the National Register were received by the National Park Service before February 9, 2008. Pursuant to § 60.13 of 36 CFR Part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington, DC 20005; or by fax, 202-371-6447. Written or faxed comments should be submitted by March 11, 2008.

J. Paul Loether,
Chief, National Register of Historic Places/ National Historic Landmarks Program.

INDIANA

Delaware County

West Washington Street Bridge, W. Washington St. over W. fork of White R., Muncie, 08000187.

Floyd County

Cedar Bough Place Historic District, 800 blk. of Cedar Bough Pl., New Albany, 08000188.

DePauw Avenue Historic District, Roughly DePauw Ave. from Vincennes St. to Abersold Dr.; 1200 blk. of Beechwood Ave.; 1211 & 1214 Vance St., New Albany, 08000189.

Shelby Place Historic District, 1500 & 1600 blks. of Shelby Pl., New Albany, 08000190.

Fountain County

Fountain County Courthouse, 301 4th St., Covington, 08000191.

Hamilton County

Strawtown Enclosure, Address Restricted, Noblesville, 08000192.

Marion County

Indianapolis Masonic Temple, 525 N. Illinois Ave., Indianapolis, 08000193.

Miami County

Miami County Courthouse, Public Square, Peru, 08000194.

Warren County

Warren County Courthouse, 125 Monroe St., Williamsport, 08000195.

MISSISSIPPI

Coahoma County

Bobo Senior High School Building, 131 School St., Clarksdale, 08000196.

Hinds County

Liberty Hall, 22822 MS 27, Crystal Springs, 08000197.

Lauderdale County

Simmons & Wright Company, The, 5493 U.S. 11-80, Kewanee, 08000198.

Madison County

Fairview School, 1278 N. Old Canton Rd., Canton, 08000199.

VIRGINIA

Amherst County

Edgewood, 591 Puppy Cr. Rd., Amherst, 08000200.

WISCONSIN

Polk County

First Baptist Church, 201 3rd Ave., Osceola, 08000201.

[FR Doc. E8-3428 Filed 2-22-08; 8:45 am]

BILLING CODE 4312-51-P